DEPARTMENT OF AGRICULTURE

Food Safety and Inspection Service

[Docket No. FSIS-2007-0032]

National Advisory Committee on Meat and Poultry Inspection; Re-establishment

AGENCY: Food Safety and Inspection Service, USDA.

ACTION: Notice of re-chartering of Committee.

SUMMARY: In accordance with the Federal Advisory Committee Act, this notice announces that the Secretary of Agriculture signed the charter of the National Advisory Committee on Meat and Poultry Inspection (NACMPI) on July 25, 2007. The charter for the NACMPI is available for viewing on the NACMPI homepage at http://www.fsis.usda.gov/About_FSIS/NACMPI_Charter/index.asp.

FOR FURTHER INFORMATION CONTACT: Loraine Cannon, U.S. Department of Agriculture (USDA), Food Safety and Inspection Service (FSIS), Room 405 Aerospace Center, 1400 Independence Avenue, SW., Washington, DC 20250-3700. Telephone number: (202) 690-6647.

SUPPLEMENTARY INFORMATION:

Background

The National Advisory Committee on Meat and Poultry Inspection provides advice and recommendations to the Secretary on meat and poultry inspection programs, pursuant to sections 7(c), 24, 205, 301(a)(3), and 301(c) of the Federal Meat Inspection Act [21 U.S.C. 607(c), 624, 645, 661(a)(3), and 661(c)] and to sections 5(a)(3), 5(c), 8(b), and 11(e) of the Poultry Products Inspection Act [21 U.S.C. 454(a)(3), 454(c), 457(b), and 460(e)]. The complexity of the issues to be addressed requires that the Committee meet at least twice per year. Members are appointed by the Secretary of USDA. Background materials are available on the Web at the address noted above or by contacting the person listed above.

Additional Public Notification

Public awareness of all segments of rulemaking and policy development is important. Consequently, in an effort to ensure that minorities, women, and persons with disabilities are aware of this notice, FSIS will announce it online through the FSIS Web page located at http://www.fsis.usda.gov/regulations/2007_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic subscription service which provides automatic and customized access to selected food safety news and information. This service is available at http://www.fsis.usda.gov/news_and_events/email_subscription/. Options range from recalls to export information to regulations, directives and notices. Customers can add or delete subscriptions themselves, and have the option to password protect their accounts.

Done in Washington, DC on: October 29, 2007.
Alfred V. Almanza,
Administrator.

[FR Doc. E7-21748 Filed 11-5-07; 8:45 am]

BILLING CODE 3410-DM-P